DEPARTMENT OF THE INTERIOR

Fish and Wildlife Service

Availability of a Habitat Conservation Plan and Receipt of an Application for an Incidental Take Permit for the Wildcat Line Single-Family Residence Project, Monterey County, California

AGENCY: Fish and Wildlife Service, Interior.

ACTION: Notice of availability and receipt of application.

SUMMARY: Wildcat Line (Applicant), a California limited partnership, has applied to the Fish and Wildlife Service (Service) for an incidental take permit pursuant to section 10(a)(1)(B) of the Endangered Species Act of 1973, as amended (Act). The Service proposes to issue a 10-year permit that would authorize take of the endangered Smith's blue butterfly (Euphilotes enoptes smithi) incidental to otherwise lawful activities. Such take would occur as a result of development of one single-family residence within an 11.46-acre parcel owned by the Applicant and located in Carmel Highlands, in Monterey County, California. Development would result in the loss of 0.8 acre of coastal sage scrub habitat, which supports an estimated 4,923 individuals of seacliff buckwheat (Eriogonum parvifolium), a host plant for the Smith's blue butterfly.

We request comments from the public on the permit application, which is available for review. The application includes a Habitat Conservation Plan (Plan). The Plan describes the proposed project and the measures that the Applicant would undertake to minimize and mitigate take of the Smith's blue butterfly.

We also request comments on our preliminary determination that the Plan qualifies as a “low-effect” habitat conservation plan, eligible for a categorical exclusion under the National Environmental Policy Act. The basis for this determination is discussed in an Environmental Action Statement, which is also available for public review.

DATES: Written comments should be received on or before April 27, 2001.

ADDRESSES: Send written comments to Ms. Diane Noda, Field Supervisor, U.S. Fish and Wildlife Service, 2493 Portola Road, Suite B, Ventura, California 93003. Comments may be sent by facsimile to (805) 644-3958.

FOR FURTHER INFORMATION CONTACT: Ms. Diane Pratt, Fish and Wildlife Biologist, at the above address or call (805) 644-1766.

SUPPLEMENTARY INFORMATION:

Document Availability

Please contact the above office if you would like copies of the application, Plan, and Environmental Action Statement. Documents also will be available for review by appointment, during normal business hours at the above address.

Background

Section 9 of the Endangered Species Act and Federal regulation prohibit the “take” of fish or wildlife species listed as endangered or threatened, respectively. Take of listed fish or wildlife is defined under the Act to include kill, harm, or harass. The Service may, under limited circumstances, issue permits to authorize incidental take; i.e., take that is incidental to, and not the purpose of, the carrying out of an otherwise lawful activity. Regulations governing incidental take permits for threatened and endangered species are found in 50 CFR 17.32 and 17.22, respectively.

The Wildcat Line Single-Family Residence project area is located east of Highway 1, southeast of Yankee Point, and north of Malpaso Creek in Carmel Highlands, Monterey County. The Applicant is requesting a 10-year incidental take permit for the Smith's blue butterfly.

The proposed project is development of a single-family residence on an 11.46-acre parcel. The Applicant proposes to grade the upper portions of the finger ridge to provide an area suitable for construction of one single-family residence. Other improvements to the site include an all-weather driveway, a picnic area, a new water tank and access road, a septic leach field, drainage and erosion control improvements, a footpath, and landscaping. The project parcel was formerly part of a 466-acre parcel, of which 439 acres have been designated for watershed and scenic conservation due to policies of the Carmel Area Land Use Plan, topography too steep to build on, and the efforts of Mr. Dan Keig. This area is zoned “WSC/199”, or one residential lot per 199-acre lot. Approximately 7.8 acres, or 68 percent, of the 11.46-acre parcel consist of slopes that are equal to or greater than 30 percent and are therefore protected from development under a scenic easement held by Monterey County, pursuant to section 20.146.120.A.6 of the Coastal Implementation Plan.

The project would disturb a 1.56-acre area (impact area), of which 0.8 acre is coastal sage scrub dominated by seacliff buckwheat, a larval and adult host plant of the Smith's blue butterfly, federally listed as endangered under the Act. The Applicant has submitted a Plan to minimize and mitigate for the removal of approximately 4,923 individual plants of seacliff buckwheat, considered suitable habitat for the Smith's blue butterfly, which grow within the impact area. The project site does not contain any other threatened or endangered species or habitat. No critical habitat for any listed species occurs on the project site. Approximately 2.93 acres (26 percent) of the 11.46-acre parcel is characterized by Monterey pine (Pinus radiata), which is included on the California Native Plant Society List 1B as a species that is rare, threatened or endangered in California and elsewhere. Lewis' clarkia (Clarkia lewisii), a Calfornia Native Plant Society List 4 plant (species with limited distribution), grows at the project site in association with the coastal sage scrub plant community.

Under the Plan, the 0.8 acre of coastal sage scrub habitat dominated by seacliff buckwheat and affected by the proposed project would be replaced with 0.97 acre of restored coastal sage scrub habitat elsewhere on the project site. To mitigate the effects of take on the Smith's blue butterfly, the impacted seacliff buckwheat plants providing foraging habitat would be replaced at a 1:1 ratio and established in the restored and existing coastal sage scrub habitat at the project site. In addition, approximately 9.86 acres of the 11.46-acre site, of which approximately 7.19 acres is coastal sage scrub habitat, would be protected in perpetuity through placement of a deed restriction and establishment of an endowment for long term management.

The Service's Proposed Action consists of the issuance of an incidental take permit and implementation of the Plan, which includes measures to minimize and mitigate impacts of the project on the Smith's blue butterfly. Two alternatives to the taking of listed species under the Proposed Action are considered in the Plan. Under the No Action Alternative, no permit would be issued. However, this alternative would result in an economic burden to the Applicant and conservation measures for the Smith's blue butterfly, such as exotic weed eradication, would not be implemented. Another alternative would result in a redesigned project with the relocation of the development footprint to another portion of the parcel. However, much of the property is too steep to be developed, and relocation of the footprint to the western portion of the property would result in the removal of an undetermined number of Monterey pine trees. The Service considers the proposed development footprint as more desirable than development elsewhere on the property because the potential reduction of take of Smith's blue butterflies and reduction of modification of their habitat would not be significant.

The Service has made a preliminary determination that the Plan qualifies as a “low-effect” plan as defined by its Habitat Conservation Planning Handbook (November 1996). Our determination that a habitat conservation plan qualifies as a low-effect plan is based on the following three criteria: (1) Implementation of the plan would result in minor or negligible effects on federally listed, proposed, and candidate species and their habitats; (2) implementation of the plan would result in minor or negligible effects on other environmental values or resources; and (3) impacts of the plan, considered together with the impacts of other past, present and reasonably foreseeable similarly situated projects would not result, over time, in cumulative effects to environmental values or resources which would be considered significant. As more fully explained in our Environmental Action Statement, the Applicant's Plan for the Wildcat Line Single-Family Residence Project qualifies as a “low-effect” plan for the following reasons:

1. Approval of the Plan would result in minor or negligible effects on the Smith's blue butterfly and its habitat. The Service does not anticipate significant direct or cumulative effects to the Smith's blue butterfly resulting from development of the Wildcat Line Single-Family Residence Project.

2. Approval of the Plan would not have adverse effects on unique geographic, historic or cultural sites, or involve unique or unknown environmental risks.

3. Approval of the Plan would not result in any cumulative or growth inducing impacts and, therefore, would not result in significant adverse effects on public health or safety.

4. The project does not require compliance with Executive Order 11988 (Floodplain Management), Executive Order 11990 (Protection of Wetlands), or the Fish and Wildlife Coordination Act, nor does it threaten to violate a Federal, State, local or tribal law or requirement imposed for the protection of the environment.

5. Approval of the Plan would not establish a precedent for future actions or represent a decision in principle about future actions with potentially significant environmental effects.

The Service therefore has made a preliminary determination that approval of the Plan qualifies as a categorical exclusion under the National Environmental Policy Act, as provided by the Department of the Interior Manual (516 DM 2, Appendix 1 and 516 DM 6, Appendix 1). Based upon this preliminary determination, we do not intend to prepare further National Environmental Policy Act documentation. The Service will consider public comments in making its final determination on whether to prepare such additional documentation.

The Service provides this notice pursuant to section 10(c) of the Endangered Species Act. We will evaluate the permit application, the Plan, and comments submitted thereon to determine whether the application meets the requirements of section 10 (a) of the Act. If the requirements are met, the Service will issue a permit for the incidental take of the Smith's blue butterfly from development of the Wildcat Line Single-Family Residence Project area. We will make the final permit decision no sooner than 30 days from the date of this notice.

Dated: March 13, 2001.
Miel R. Corbett,
Deputy Manager, California/Nevada Operations Office, Sacramento, California.

[FR Doc. 01-7607 Filed 3-27-01; 8:45 am]

BILLING CODE 4130-55-P